ENVIRONMENTAL PROTECTION AGENCY

[FRL-7229-9]

Agency Information Collection Activities: Submission for OMB Review; Comment Request; NSPS for Metallic Mineral Processing Plants (Subpart LL)

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: NSPS for Metallic Mineral Processing Plants, OMB Control Number 2060-0016, expiration date July 21, 2002. The ICR describes the nature of the information collection and its expected burden and cost; where appropriate, it includes the actual data collection instrument.

DATES: Comments must be submitted on or before July 12, 2002.

ADDRESSES: Send comments, referencing EPA ICR No. 0982.07 and OMB Control Number 2060-0016 to the following addresses: Susan Auby, U.S. Environmental Protection Agency, Collection Strategies Division (Mail Code 2822T), 1200 Pennsylvania Avenue, NW., Washington, DC 20460-0001; and to Office of Information and Regulatory Affairs, Office of Management and Budget (OMB), Attention Desk Officer for EPA, 725 17th Street, NW., Washington, DC 20530.

FOR FURTHER INFORMATION CONTACT: Susan Auby, (202) 566-1672. For technical questions about the ICR, contact Gregory Fried at EPA by phone (202) 564-7016, or by email at fried.gregory@epa.gov.

SUPPLEMENTARY INFORMATION: Title: NSPS for Metallic Mineral Processing Plants (Subpart LL), OMB Control Number 2060-0016, EPA ICR Number 0982.07, expiration date July 31, 2002. This is a request for extension of a currently approved collection.

Abstract: The New Source Performance Standards (NSPS) for Metallic Mineral Processing Plants were promulgated on February 21, 1984. These standards apply to the following facilities in Metallic Mineral Processing Plants: each crusher and screen in open-pit mines; each crusher, screen, bucket elevator, conveyor belt transfer point, thermal dryer, product packaging station, storage bin, enclosed storage area, truck loading and unloading station at the mill or concentrator, commencing construction, modification or reconstruction after the date of proposal.

Response to the collection of information is mandatory under 40 CFR part 60, subpart LL. Owners or operators of the affected facilities described must make initial notifications, including notification of any physical or operational change to an existing facility which may increase the regulated pollutant emission rate; notification of the demonstration of the continuous monitoring system (CMS), and notification of the initial performance test. Performance test reports are needed as these are the Agency's records of a source's initial capability to comply with emission standards, and note the operating conditions, flow rate and pressure drop, under which compliance was achieved. Owners of affected facilities are required to install, calibrate, maintain, and operate a continuous monitoring system to measure the change in the pressure of the gas stream through the scrubber and the scrubbing liquid flow rate. Owners or operators are also required to maintain records of the occurrence and duration of any startup, shutdown, or malfunction in the operation of an affected facility, or any period during which the monitoring system is inoperative.

Semiannual excess emissions reports and monitoring systems performance reports will include the exceeded findings of any control device operating parameters, (specified in 40 CFR 60.735, Recordkeeping and Reporting), the date and time of the deviance, the nature and cause of the malfunction (if known) and the corrective measures taken, and identification of the time period during which the CMS was inoperative.

Any owner or operator subject to the provisions of this part shall maintain a file of these measurements, and retain the file for at least two years following the date of such measurements, and retain the file for at least two years.

An agency may not conduct or sponsor, and a person is not required to respond to, a collection of information unless it displays a currently valid OMB control number. The OMB control numbers for EPA's regulations are listed in 40 CFR part 9 and 48 CFR chapter 15. The Federal Register document required under 5 CFR 1320.8(d), soliciting comments on this collection of information was published on October 29, 2001 (FR); no comments were received.

Burden Statement: The annual public reporting and recordkeeping burden for this collection of information is estimated to average 40 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owner/operators of Metalic Mineral Processing Plants.

Estimated Number of Respondents: 44.

Frequency of Response: Semiannually.

Estimated Total Annual Hour Burden: 1,760 hours.

Estimated Total Annualized Capital, O&M Cost Burden: $14,300. Send comments on the Agency's need for this information, the accuracy of the provided burden estimates, and any suggested methods for minimizing a respondent burden, including through the use of automated collection techniques to Ms Susan Auby, Collection Strategies Division (Mail Code 2822T), Office of Environmental Information, United States Environmental Protection Agency, 1200 Pennsylvania Avenue, NW., Washington, DC 20460-0001; and to the Office of Information and Regulatory Affairs, Office of Management and Budget, 725 17th Street, NW., Washington, DC 20503, Attention: Desk Officer for EPA. Include the EPA ICR number 0982.07 and OMB Control Number 2060-0016 in any correspondence.

Dated: June 3, 2002.
Oscar Morales,
Director, Collection Strategies Division.

[FR Doc. 02-14763 Filed 6-11-02; 8:45 am]

BILLING CODE 6560-50-P